DEPARTMENT OF COMMERCE

Submission for OMB Review; Comment Request

The Department of Commerce has submitted to the Office of Management and Budget (OMB) for clearance the following proposal for collection of information under the emergency provisions of the Paperwork Reduction Act (44 U.S.C. Chapter 35).

Agency: National Telecommunications and Information Administration (NTIA).

Title: Broadband Technology Opportunities Program (BTOP): Comprehensive Community Infrastructure, Public Computer Center, and Sustainable Broadband Adoption Applications Requirements.

OMB Control Number: 0660-0031.

Form Number(s): None.

Type of Request: Emergency submission.

Number of Respondents: 750.

Average Hours per Response: 30.

Burden Hours: 22,500.

Needs and Uses: NTIA intends to seek comments from broadband service providers providing services in the proposed funded service areas of the proposed Comprehensive Community Infrastructure (CCI) projects. For at least a 15-day period, NTIA will post an announcement on BroadbandUSA.gov identifying all of the Census block groups or tracts included within the proposed funded service area of any of the CCI applications submitted.

The announcement will provide existing broadband service providers with an opportunity to voluntarily submit to NTIA information about the broadband services that they currently offer in their respective service territories by Census block group or tract. NTIA will provide a template for submissions from service providers. This emergency review and approval will enable NTIA to post the form template and open the comment period.

Affected Public: Business or other for-profit organizations.

Frequency: On occasion.

Respondent's Obligation: Voluntary.

OMB Desk Officer: Nicholas Fraser, (202) 395-5887.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent by April 9, 2010 to Nicholas Fraser, OMB Desk Officer, FAX number (202) 395-7285, or via the Internet at Nicholas_A._Fraser@omb.eop.gov.

Dated: April 1, 2010.
Gwellnar Banks,
Management Analyst, Office of the Chief Information Officer.

[FR Doc. 2010-7711 Filed 4-5-10; 8:45 am]

BILLING CODE 3510-60-P